DEPARTMENT OF VETERANS AFFAIRS

[OMB Control No. 2900-NEW]

Proposed Information Collection (NCA: Legacy (Historic Resources Education Program Research))

AGENCY: National Cemetery Administration, Department of Veterans Affairs.

ACTION: Notice.

Activity: Comment Request.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, and allow 60 days for public comment in response to the notice. This notice solicits comments on information that will increase public access to historic resources in national cemeteries. It will also increase public awareness of the legacy of the sacrifices of our nation's Veterans. NCA is developing a Historic Resources Education Program to serve academic and non-academic stakeholders.

DATES: Written comments and recommendations on the proposed collection of information should be received on or before October 2, 2015.

ADDRESSES: Submit written comments on the collection of information through Federal Docket Management System (FDMS) at www.Regulations.gov or to Willie Lewis, National Cemetery Administration (43D3), Department of Veterans Affairs, 810 Vermont Avenue NW., Washington, DC 20420; or email: willie.lewis@va.gov. Please refer to “OMB Control No. 2900-NEW” in any correspondence. During the comment period, comments may be viewed online through the FDMS.

FOR FURTHER INFORMATION CONTACT: Willie Lewis at (202) 461-4242 or FAX (202) 501-2240.

SUPPLEMENTARY INFORMATION: Under the PRA of 1995 (Pub. L. 104-13; 44 U.S.C. 3501-21), Federal agencies must obtain approval from the Office of Management and Budget (OMB) for each collection of information they conduct or sponsor. This request for comment is being made pursuant to Section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Title: NCA Legacy (Historic Resources Education Program Research), VA Form 40-10166 Online Survey/Focus Groups.

OMB Control Number: 2900—NEW.

Type of Review: New collection.

Abstract: VA Survey Form 40-10166 and Focus Group interviews will be used to collect information from academic and non-academic stakeholders. These audiences include, but are not limited to middle school and high school students and teachers, university students and professors, historic associations, veterans associations, libraries, and organizations that serve amateur genealogists. The program will increase public access to historic resources in national cemeteries and, in doing so, it will also increase public awareness of the legacy of the sacrifices of our nation's veterans.

Affected Public: Individuals or households.

Estimated Annual Burden: 158 hours.

Estimated Average Burden per Respondent: Online Survey—50 hrs., Focus Groups—108 hrs.

Frequency of Response: Annually.

Estimated Number of Respondents: 254.

By direction of the Secretary.
Kathleen M. Manwell,
Program Analyst, VA Privacy Service, Office of Privacy and Records Management, Department of Veterans Affairs.

[FR Doc. 2015-18926 Filed 7-31-15; 8:45 am]

BILLING CODE 8320-01-P